DEPARTMENT OF HOMELAND SECURITY

Federal Emergency Management Agency

44 CFR Part 64

[Docket ID FEMA-2008-0020; Internal Agency Docket No. FEMA-8107]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region III
West Virginia:
Charles Town, City of, Jefferson | 540066 | April 24, 1975, Emerg; December 4, 1979, Reg; December 18, 2009, Susp | Dec. 18, 2009 | Dec. 18, 2009.
Harpers Ferry, Town of, Jefferson | 540067 | September 25, 1975, Emerg; August 24, 1984, Reg; December 18, 2009, Susp | ......do | Do.
Jefferson County, Unincorporated Areas | 540065 | December 15, 1975, Emerg; October 15, 1980, Reg; December 18, 2009, Susp | ......do | Do.
Ranson, City of, Jefferson | 540068 | April 2, 1975, Emerg; June 15, 1979, Reg; December 18, 2009, Susp | ......do | Do.
Shepherdstown, Town of, Jefferson | 540069 | February 14, 1975, Emerg; March 18, 1980, Reg; December 18, 2009, Susp | ......do | Do.
Region V
Ohio:
Amesville, Village of, Athens | 390015 | February 24, 1977, Emerg; September 29, 1989, Reg; December 18, 2009, Susp | ......do | Do.
Athens, City of, Athens | 390016 | November 22, 1974, Emerg; March 28, 1980, Reg; December 18, 2009, Susp | ......do | Do.
Athens County, Unincorporated Areas | 390760 | N/A, Emerg; October 31, 1991, Reg; December 18, 2009, Susp | ......do | Do.
Buchtel, Village of, Athens | 390728 | October 9, 1992, Emerg; March 1, 1995, Reg; December 18, 2009, Susp | ......do | Do.
Coalton, Village of, Jackson | 390291 | December 21, 1978, Emerg; May 2, 1991, Reg; December 18, 2009, Susp | ......do | Do.
Glouster, Village of, Athens | 390018 | July 18, 1975, Emerg; July 19, 2001, Reg; December 18, 2009, Susp | ......do | Do.
Jackson, City of, Jackson | 390292 | July 22, 1975, Emerg; June 1, 1984, Reg; December 18, 2009, Susp | ......do | Do.
Jackson County, Unincorporated Areas | 390290 | March 19, 1976, Emerg; August 19, 1985, Reg; December 18, 2009, Susp | ......do | Do.
Jacksonville, Village of, Athens | 390019 | March 21, 1977, Emerg; June 3, 1986, Reg; December 18, 2009, Susp | ......do | Do.
Nelsonville, City of, Athens | 390020 | July 7, 1975, Emerg; January 17, 1986, Reg; December 18, 2009, Susp | ......do | Do.
Trimble, Village of, Athens | 390021 | March 2, 1977, Emerg; November 1, 1995, Reg; December 18, 2009, Susp | ......do | Do.
Wellston, City of, Jackson | 390293 | July 31, 1991, Emerg; February 1, 1994, Reg; December 18, 2009, Susp | ......do | Do.
Wisconsin:
Baraboo, City of, Sauk | 550392 | June 1, 1973, Emerg; August 1, 1979, Reg; December 18, 2009, Susp | ......do | Do.
LaValle, Village of, Sauk | 550395 | March 5, 1975, Emerg; September 19, 1984, Reg; December 18, 2009, Susp | ......do | Do.
Lake Delton, Village of, Sauk | 550394 | February 19, 1975, Emerg; September 4, 1985, Reg; December 18, 2009, Susp | ......do | Do.
Lime Ridge, Village of, Sauk | 550396 | N/A, Emerg; September 1, 1987, Reg; December 18, 2009, Susp | ......do | Do.
Merrimac, Village of, Sauk | 550398 | March 27, 1975, Emerg; March 7, 2001, Reg; December 18, 2009, Susp | ......do | Do.
North Freedom, Village of, Sauk | 550399 | April 22, 1975, Emerg; September 19, 1984, Reg; December 18, 2009, Susp | ......do | Do.
Plain, Village of, Sauk | 550400 | December 23, 1974, Emerg; September 30, 1988, Reg; December 18, 2009, Susp | ......do | Do.
Prairie du Sac, Village of, Sauk | 550401 | September 29, 2000, Emerg; March 7, 2001, Reg; December 18, 2009, Susp | ......do | Do.
Reedsburg, City of, Sauk | 550402 | May 21, 1975, Emerg; March 4, 1985, Reg; December 18, 2009, Susp | ......do | Do.
Rock Springs, Village of, Sauk | 550403 | April 30, 1975, Emerg; September 18, 1985, Reg; December 18, 2009, Susp | ......do | Do.
Sauk City, Village of, Sauk | 550404 | May 7, 1975, Emerg; March 7, 2001, Reg; December 18, 2009, Susp | ......do | Do.
Sauk County, Unincorporated Areas | 550391 | September 7, 1973, Emerg; September 17, 1980, Reg; December 18, 2009, Susp | ......do | Do.
Spring Green, Village of, Sauk | 550405 | August 27, 1975, Emerg; February 1, 1986, Reg; December 18, 2009, Susp | ......do | Do.
West Baraboo, Village of, Sauk | 550407 | July 24, 1975, Emerg; September 19, 1984, Reg; December 18, 2009, Susp | ......do | Do.
Wisconsin Dells, City of, Sauk | 550065 | July 17, 1975, Emerg; December 18, 1984, Reg; December 18, 2009, Susp | ......do | Do.
Region VI
Arkansas:
Garland, City of, Miller | 050138 | April 1, 1975, Emerg; June 1, 1987, Reg; December 18, 2009, Susp | ......do | Do.
Miller County, Unincorporated Areas | 050451 | March 31, 1983, Emerg; April 1, 1988, Reg; December 18, 2009, Susp | ......do | Do.
Oklahoma:
Arcadia, Town of, Oklahoma | 400551 | N/A, Emerg; August 15, 2005, Reg; December 18, 2009, Susp | ......do | Do.
Bethany, City of, Oklahoma | 400254 | January 17, 1975, Emerg; July 31, 1979, Reg; December 18, 2009, Susp | ......do | Do.
Choctaw, City of Oklahoma | 400357 | February 25, 1976, Emerg; April 15, 1981, Reg; December 18, 2009, Susp | ......do | Do.
Del City, City of, Oklahoma | 400233 | November 23, 1973, Emerg; March 18, 1980, Reg; December 18, 2009, Susp | ......do | Do.
Edmond, City of, Oklahoma | 400252 | June 18, 1974, Emerg; May 15, 1980, Reg; December 18, 2009, Susp | ......do | Do.
Forest Park, City of, Oklahoma | 400379 | March 16, 1983, Emerg; July 3, 1985, Reg; December 18, 2009, Susp | ......do | Do.
Harrah, City of, Oklahoma | 400140 | December 27, 1977, Emerg; July 16, 1980, Reg; December 18, 2009, Susp | ......do | Do.
Jones City, Town of, Oklahoma | 400141 | June 30, 1976, Emerg; January 2, 1981, Reg; December 18, 2009, Susp | ......do | Do.
Luther, Town of, Oklahoma | 400396 | July 8, 1975, Emerg; February 17, 1988, Reg; December 18, 2009, Susp | ......do | Do.
Midwest City, City of, Oklahoma | 400405 | January 16, 1975, Emerg; May 19, 1981, Reg; December 18, 2009, Susp | ......do | Do.
Nichols Hills, City of, Oklahoma | 400423 | December 19, 1974, Emerg; January 20, 1982, Reg; December 18, 2009, Susp | ......do | Do.
Nicoma Park, Town of, Oklahoma | 400424 | July 8, 1980, Emerg; July 16, 1980, Reg; December 18, 2009, Susp | ......do | Do.
Oklahoma City, City of, Oklahoma | 405378 | March 19, 1971, Emerg; July 14, 1972, Reg; December 18, 2009, Susp | ......do | Do.
Spencer, City of, Oklahoma | 400412 | June 12, 1975, Emerg; July 16, 1980, Reg; December 18, 2009, Susp | ......do | Do.
The Village, City of, Oklahoma | 400420 | March 11, 1975, Emerg; July 16, 1980, Reg; December 18, 2009, Susp | ......do | Do.
Valley Brook, Town of, Oklahoma | 400445 | April 7, 1975, Emerg; September 30, 1981, Reg; December 18, 2009, Susp | ......do | Do.
Warr Acres, City of, Oklahoma | 400449 | January 27, 1975, Emerg; December 16, 1980, Reg; December 18, 2009, Susp | ......do | Do.
Region VIII
Colorado:
Fairplay, Town of, Park | 080239 | July 29, 1976, Emerg; August 5, 1986, Reg; December 18, 2009, Susp | ......do | Do.
Park County, Unincorporated Areas | 080139 | May 13, 1975, Emerg; April 1, 1987, Reg; December 18, 2009, Susp | ......do | Do.
North Dakota:
Abercrombie, City of, Richland | 380151 | March 11, 1997, Emerg; April 25, 1997, Reg; December 18, 2009, Susp | ......do | Do.
Antelope, Township of, Richland | 380663 | January 13, 1983, Emerg; August 5, 1986, Reg; December 18, 2009, Susp | ......do | Do.
Barrie, Township of, Richland | 380661 | December 30, 1982, Emerg; September 18, 1986, Reg; December 18, 2009, Susp | ......do | Do.
Belford, Township of, Richland | 380662 | January 6, 1983, Emerg; August 19, 1986, Reg; December 18, 2009, Susp | ......do | Do.
Brandenburg, Township of, Richland | 380622 | January 26, 1979, Emerg; April 1, 1986, Reg; December 18, 2009, Susp | ......do | Do.
Brightwood, Township of, Richland | 380664 | February 23, 1983, Emerg; December 11, 1985, Reg; December 18, 2009, Susp | ......do | Do.
Center, Township of, Richland | 380648 | November 14, 1980, Emerg; June 4, 1987, Reg; December 18, 2009, Susp | ......do | Do.
Dwight, Township of, Richland | 380657 | August 9, 1982, Emerg; September 29, 1986, Reg; December 18, 2009, Susp | ......do | Do.
Eagle, Township of, Richland | 380688 | February 24, 1997, Emerg; May 4, 1998, Reg; December 18, 2009, Susp | ......do | Do.
Fairmount, Township of, Richland | 380168 | August 8, 1979, Emerg; April 1, 1986, Reg; December 18, 2009, Susp | ......do | Do.
Greendale, Township of, Richland | 380660 | September 27, 1982, Emerg; March 11, 1986, Reg; December 18, 2009, Susp | ......do | Do.
Ibsen, Township of, Richland | 380672 | May 16, 1983, Emerg; March 12, 1986, Reg; December 18, 2009, Susp | ......do | Do.
Lamars, Township of, Richland | 380658 | August 9, 1982, Emerg; March 11, 1986, Reg; December 18, 2009, Susp | ......do | Do.
Mooreton, Township of, Richland | 380654 | July 12, 1982, Emerg; September 18, 1986, Reg; December 18, 2009, Susp | ......do | Do.
Moran, Township of, Richland | 380666 | March 10, 1983, Emerg; September 18, 1986, Reg; December 18, 2009, Susp | ......do | Do.
Nansen, Township of, Richland | 380656 | July 15, 1982, Emerg; March 11, 1986, Reg; December 18, 2009, Susp | ......do | Do.
Richland County, Unincorporated Areas | 380098 | February 26, 1997, Emerg; June 1, 1998, Reg; December 18, 2009, Susp | ......do | Do.
Wahpeton, City of, Richland | 380100 | May 19, 1975, Emerg; June 4, 1987, Reg; December 18, 2009, Susp | ......do | Do.
Walcott, Township of, Richland | 380340 | April 26, 1978, Emerg; September 29, 1986, Reg; December 18, 2009, Susp | ......do | Do.
Waldo, Township of, Richland | 380659 | September 10, 1982, Emerg; December 11, 1985, Reg; December 18, 2009, Susp | ......do | Do.
Wyndmere, Township of, Richland | 380667 | March 31, 1983, Emerg; December 11, 1985, Reg; December 18, 2009, Susp | ......do | Do.
Region X
Oregon:
Depoe Bay, City of, Lincoln | 410283 | January 11, 1979, Emerg; October 15, 1980, Reg; December 18, 2009, Susp | ......do | Do.
Fairview, City of, Multnomah | 410180 | March 31, 1975, Emerg; September 30, 1987, Reg; December 18, 2009, Susp | ......do | Do.
Lincoln City, City of, Lincoln | 410130 | December 22, 1972, Emerg; April 17, 1978, Reg; December 18, 2009, Susp | ......do | Do.
Lincoln County, Unincorporated Areas | 410129 | February 16, 1973, Emerg; September 3, 1980, Reg; December 18, 2009, Susp | ......do | Do.
Multnomah County, Unincorporated Areas | 410179 | February 4, 1972, Emerg; June 15, 1982, Reg; December 18, 2009, Susp | ......do | Do.
Newport, City of, Lincoln | 410131 | October 18, 1974, Emerg; April 15, 1980, Reg; December 18, 2009, Susp | ......do | Do.
Siletz, City of, Lincoln | 410132 | May 30, 1975, Emerg; March 1, 1979, Reg; December 18, 2009, Susp | ......do | Do.
Toledo, City of, Lincoln | 410133 | April 19, 1973, Emerg; March 1, 1979, Reg; December 18, 2009, Susp | ......do | Do.
Troutdale, City of, Multnomah | 410184 | June 13, 1974, Emerg; September 30, 1988, Reg; December 18, 2009, Susp | ......do | Do.
Waldport, City of, Lincoln | 410134 | November 1, 1974, Emerg; March 15, 1979, Reg; December 18, 2009, Susp | ......do | Do.
Yachats, City of, Lincoln | 410135 | July 18, 1975, Emerg; March 1, 1979, Reg; December 18, 2009, Susp | ......do | Do.
*-do- = Ditto.
Code for reading third column: Emerg.—Emergency; Reg.—Regular; Susp.—Suspension.

Dated: December 9, 2009.
Edward L. Connor,
Acting Assistant Administrator, Mitigation Directorate, Department of Homeland Security, Federal Emergency Management Agency.

[FR Doc. E9-29935 Filed 12-15-09; 8:45 am]

BILLING CODE 9110-12-P